ENVIRONMENTAL PROTECTION AGENCY

40 CFR Part 300

[EPA-HQ-SFUND-1991-006; FRL-9925-52-Region 8]

National Oil and Hazardous Substances Pollution Contingency Plan National Priorities List

AGENCY: Environmental Protection Agency (EPA).

ACTION: Withdrawal of direct final rule.

SUMMARY: On February 5, 2015, the Environmental Protection Agency (EPA) published a Notice of Intent to Delete and a direct final Notice of Deletion for the Midvale Slag from the National Priorities List. The EPA is withdrawing the Final Notice of Deletion due to adverse comments that were received during the public comment period. After consideration of the comments received, if appropriate, EPA will publish a Notice of Deletion in the Federal Register based on the parallel Notice of Intent to Delete and place a copy of the final deletion package, including a Responsiveness Summary, if prepared, in the Site repositories.

DATES: This withdrawal of the direct final action published February 5, 2015 (80 FR 6458) is effective as of April 3, 2015.

ADDRESSES: Information Repositories: Comprehensive information on the Site, as well as the comments that we received during the comment period, are available in the docket EPA-HQ-SFUND-1991-0006 accessed through the http://www.regulations.gov Web site. Although listed in the index, some information is not publicly available, e.g., CBI or other information whose disclosure is restricted by statute. Certain other material, such as copyrighted material, will be publicly available only in hard copy. Publicly available docket materials are available electronically at http://www.regulations.gov or in hard copy at Ruth Tyler Branch Library, 8041 South Wood, Midvale, UT 84047; Phone: (801-944-7641); Hours: M-Th: 9 a.m.-9 p.m.; Fri-Sat: 9:00 a.m.-5:30 p.m.

FOR FURTHER INFORMATION CONTACT: Erna Waterman, Remedial Project Manager, U.S. Environmental Protection Agency, Region 8, Mail code: 8EPR-SR, 1595 Wynkoop Street, Denver, CO 80202-1129; Phone: (303) 312-6762; Email: waterman.erna@epa.gov. You may contact Erna to request a hard copy of publicly available docket materials.

List of Subjects in 40 CFR Part 300

Environmental protection, Air pollution control, Chemicals, Hazardous waste, Hazardous substances, Intergovernmental relations, Penalties, Reporting and recordkeeping requirements, Superfund, Water pollution control, Water supply.

Dated: March 24, 2015.
Shaun L. McGrath,
Regional Administrator, Region 8.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p.193.

2. Accordingly, the amendment to Table 1 of Appendix B to CFR part 300 to remove the entry “UT” “Midvale Slag” “Midvale” published February 5, 2015 (80 FR 6458) is withdrawn as of April 3, 2015.

[FR Doc. 2015-07472 Filed 4-2-15; 8:45 am]

BILLING CODE 6560-50-P